DEPARTMENT OF TRANSPORTATION

Federal Aviation Administration

Fourteenth Meeting: RTCA Special Committee 227, Standards of Navigation Performance

AGENCY: Federal Aviation Administration (FAA), U.S. Department of Transportation (DOT).

ACTION: Meeting Notice of RTCA Special Committee 227, Standards of Navigation Performance.

SUMMARY: The FAA is issuing this notice to advise the public of the fourteenth meeting of the RTCA Special Committee 227, Standards of Navigation Performance.

DATES: The meeting will be held June 15-19th from 9:00 a.m.-4:30 p.m.

ADDRESSES: RTCA Headquarters, 1150 18th Street NW., Suite 910, Washington, DC 20036.

FOR FURTHER INFORMATION CONTACT: The RTCA Secretariat, 1150 18th Street NW., Suite 910, Washington, DC 20036, or by telephone at (202) 330-0662 or (202) 833-9339, fax at (202) 833-9434, or Web site at http://www.rtca.org. In addition, Sophie Bousquet may be contacted directly at email: sbousquet@rtca.org.

SUPPLEMENTARY INFORMATION: Pursuant to section 10(a)(2) of the Federal Advisory Committee Act (Pub. L. 92-463, 5 U.S.C., App.), notice is hereby given for a meeting of Special Committee 227. The agenda will include the following:

June 15-19

• Welcome/Introductions/Administrative Remarks

• Agenda Overview

• Overview of Planned Work Program for the Week

○ Action Items Review

○ MOPS Draft Review

○ Miscellaneous Items

• Plenary Review/Discussion

○ Planned Work Schedule (Note, schedule subject to change)

○ Draft MOPS Issues

○ CNS-ATM appendix: Interval Management Operations, addition or not at this time.

○ Status of new working group for map MOPS

○ Release of the MOPS (Rev to DO-283A) for FRAC

○ 9:00 a.m. to 4:30 p.m. each day

• Technical Requirements Breakout Sessions (as needed)

• Other Business

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 28, 2015.
Mohannad Dawoud,
Management Analyst, NextGen, Program Oversight and Administration, Federal Aviation Administration.

[FR Doc. 2015-13388 Filed 6-1-15; 8:45 am]

BILLING CODE 4910-13-P